DEPARTMENT OF DEFENSE

Office of the Secretary

[Docket ID: DoD-2008-OS-0118]

Privacy Act of 1974; Systems of Records

AGENCY: Defense Finance and Accounting Service, DoD.

ACTION: Notice to Add a System of Records.

SUMMARY: The Defense Finance and Accounting Service (DFAS) is proposing to add a system of records notice to its inventory of record systems subject to the Privacy Act of 1974, (5 U.S.C. 552a), as amended.

DATES: This action will be effective without further notice on October 31, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on September 23, 2008, to the House Committee on Oversight and Government Reform, the Senate Committee on Governmental Affairs, and the Office of Management and Budget (OMB) pursuant to paragraph 4c of Appendix I to OMB Circular No. A-130, `Federal Agency Responsibilities for Maintaining Records About Individuals,' dated December 12, 2000, 65 FR 239.

Dated: September 23, 2008.
Patricia L. Toppings,
OSD Federal Register Liaison Officer, Department of Defense.

T-7305

System name:

Departmental Cash Management System (DCMS) Records.

System location:

Defense Information Systems Agency, Defense Enterprise Computing Center, Ogden, 7879 Wardleigh Road, Hill Air Force Base, Utah 84058-5997.

Defense Information Systems Agency, Defense Enterprise Computing Center, Mechanicsburg, Bldg 308, Naval Support Activity (NSA), 5450 Carlisle Pike, Mechanicsburg, PA 17050-2411.

Defense Finance and Accounting Service, DFAS-Denver, 6760 E. Irvington Place, Denver, CO 80279-8000.

Defense Finance and Accounting Service, DFAS-Limestone, 27 Arkansas Road, Limestone, ME 04751-1500.

Defense Finance and Accounting Service, DFAS-Japan, Building 206 Unit 5220, APO AP 96328-5220.

Defense Finance and Accounting Service, DFAS-Columbus, 3990 East Broad St, Columbus, OH 43213-1152.

Defense Finance and Accounting Service, DFAS-Indianapolis, 8899 East 56th Street, Indianapolis, IN 46249-0100.

Secretary of the Air Force, SAF/FMBMB-AFO, 201 12th Street Suite 512B, Arlington, VA 22202-5408.

Categories of individuals covered by the system:

United States Air Force (USAF), Army, Navy, Marine Corps, active, reserve, and guard members, Defense Security Service and National Geospatial-Intelligence Agency civilian employees, Department of Defense (DoD) civilian employees, paid by appropriated funds and whose pay is processed by the Defense Finance and Accounting Service.

Categories of records in the system:

Name, address, telephone number, Social Security Number (SSN), year and appropriation for processing accounting transactions.

Authority for maintenance of the system:

5 U.S.C. 301, Departmental regulations, Department of Defense Financial Management Regulation (DoDFMR) 7000.14-R Vol. 4, 31 U.S.C. Sections 3511, 3512, and 3513, and E.O. 9397 (SSN).

Purpose(s):

This Air Force system will manage and reconcile cash disbursements, reimbursements, collections, and receipts department-wide. It will reconcile interfund processing for network users, and provide support for improved cash management business processes by consolidating and generating annual reports of expenditures and receipts.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' published at the beginning of the DoD compilation of systems of records notices apply to this system.

Policies and practices for storing, retrieving, accessing, retaining, and disposing of records in the system:

Storage:

Electronic storage media and paper records in file folders.

Retrievability:

Individual's name or Social Security Number (SSN).

Safeguards:

Records are stored in an office building protected by guards, controlled screening, use of visitor registers, electronic access, and/or locks. Access to records is limited to authorized individuals who are properly screened and cleared on a need-to-know basis in the performance of their duties. Passwords and digital signatures are used to control access to the system data, and procedures are in place to deter and detect browsing and unauthorized access. Physical and electronic access are limited to persons responsible for servicing and authorized to use the system.

Retention and disposal:

Records may be temporary in nature and deleted when actions are completed, superseded, obsolete, or no longer needed. Other records may be cut off at the end of the payroll year, and then destroyed up to 6 years and 3 months after cutoff. Records are destroyed by degaussing the electronic media and recycling hardcopy records. The recycled hardcopies are destroyed by shredding, burning, or pulping.

System manager(s) and address:

Defense Finance and Accounting Service, Denver, System Management Directorate, Accounting and Cash Systems, 6760 E. Irvington Place, Denver, CO 80279-8000.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Individuals should furnish full name, Social Security Number (SSN), current address, telephone number, and provide a reasonable description of what they are seeking.

Record access procedures:

Individuals seeking access to information about themselves contained in this system of records should address written inquiries to Defense Finance and Accounting Service, Freedom of Information/Privacy Act Program Manager, Corporate Communications and Legislative Liaison, 6760 E. Irvington Place, Denver, CO 80279-8000.

Individuals should furnish full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned, DoD Components, and other Federal agencies.

Exemptions claimed for the system:

None.

[FR Doc. E8-23025 Filed 9-30-08; 8:45 am]

BILLING CODE 5001-06-P